DEPARTMENT OF ENERGY

Federal Energy Regulatory Commission

[Project No. 5274-001]

New Hampshire Department of Environmental Services; Notice of Intent To Prepare an Environmental Assessment

On June 2, 2025, as supplemented on June 13, 2025, New Hampshire Department of Environmental Services (exemptee) filed an application to surrender its exemption for the Squam Lake Dam Hydroelectric Project No. 5274. The Project is located on the Squam River, in Grafton County, New Hampshire. The project does not occupy any federal lands.

The exemptee proposes to surrender the project exemption. The generating equipment has not operated since 2002. No modifications to the existing dam, buildings, or structures and no ground disturbing activities are proposed. The applicant has already disconnected the phase leads from the electrical grid. The applicant proposes to remove the electrical connections to the generators within the powerhouse and disable and/or remove the generating equipment and ancillary electrical equipment from the powerhouse. There would be no work on the dam or spillway. Upon surrender of the exemption, the penstock gates will be left in the closed and locked position. The dam would remain in place with no changes to its components, ownership, operation, maintenance procedures, or monitoring procedures. Flows would continue to pass over the spillway and through three low-level outlet sluice gates. Outlet gates and equipment needed for regular dam operation would remain operable.

Commission staff public noticed the application on July 11, 2025, and solicited comments, motions to intervene, and protests, with the comment period ending on August 12, 2025. No comments were received in response to the Commission's notice.

This notice identifies Commission staff's intention to prepare an environmental assessment (EA) for the project.¹ Commission staff plans to issue an EA by February 9, 2026. Revisions to the schedule may be made as appropriate. The EA will be issued for a 30-day comment period. All comments filed on the EA will be reviewed by staff and considered in the Commission's final decision on the proceeding.

¹ In accordance with the Council on Environmental Quality's regulations, the unique identification number for documents relating to this environmental review is EAXX-019-20-000-1755615924. 40 CFR 1501.5(c)(4) (2024).

The Commission's Office of Public Participation (OPP) supports meaningful public engagement and participation in Commission proceedings. OPP can help members of the public, including landowners, community organizations, Tribal members, and others to access publicly available information and navigate Commission processes. For public inquiries and assistance with making filings such as interventions, comments, or requests for rehearing, the public is encouraged to contact OPP at (202) 502-6595 or OPP@ferc.gov.

Any questions regarding this notice may be directed to Kelly Fitzpatrick at 202-502-8435 or kelly.fitzpatrick@ferc.gov.

Dated: September 10, 2025.
Carlos D. Clay,
Deputy Secretary.

[FR Doc. 2025-17763 Filed 9-12-25; 8:45 am]

BILLING CODE 6717-01-P